DEPARTMENT OF HOMELAND SECURITY

Coast Guard

[Docket No. USCG-2020-0486]

Merchant Marine Personnel Advisory Committee; September 2020 Teleconference

AGENCY: U.S. Coast Guard, Department of Homeland Security.

ACTION: Notice of Federal Advisory Committee teleconference meeting.

SUMMARY: The Merchant Marine Personnel Advisory Committee (Committee) will meet via teleconference to discuss issues related to the training and fitness of merchant marine personnel. The meeting will be open to the public.

DATES:

Meeting: The Merchant Marine Personnel Advisory Committee is scheduled to meet on Tuesday, September 15, 2020, from 9 a.m. until 2:30 p.m. (EDT). The meeting may adjourn early if the Committee has completed its business.

Comments and supporting documentation: To ensure your comments are received by Committee members before the teleconference, submit your written comments no later than September 8, 2020.

ADDRESSES: To join the teleconference or to request special accommodations, contact the individual listed in the FOR FURTHER INFORMATION CONTACT section no later than 1 p.m. on September 8, 2020, to obtain the needed information. The number of individuals on a teleconference line is limited and will be available on a first-come, first served basis.

Instructions: You are free to submit comments at any time, including orally at the teleconference as time permits, but if you want Committee members to review your comments before the teleconference, please submit your comments no later than September 8, 2020. We are particularly interested in comments on the issues in the “Agenda” section below.

We encourage you to submit comments through the Federal eRulemaking Portal at https://www.regulations.gov. If your material cannot be submitted using https://www.regulations.gov, call or email the person in the FOR FURTHER INFORMATION CONTACT section of this document for alternate instructions. You must include the docket number [USCG-2020-0486]. Comments received will be posted without alteration at http://www.regulations.gov, including any personal information provided. For more about privacy and submissions in response to this document, see DHS's Correspondence System of Records notice (84 FR 48645, September 26, 2018). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign up for email alerts, you will be notified when comments are posted.

FOR FURTHER INFORMATION CONTACT: Ms. Megan Johns Henry, Alternate Designated Federal Officer of the Merchant Marine Personnel Advisory Committee, 2703 Martin Luther King Jr. Ave. SE, Stop 7509, Washington, DC 20593-7509, telephone 202-372-1255, or megan.c.johns@uscg.mil.

SUPPLEMENTARY INFORMATION: Notice of this meeting is in compliance with the Federal Advisory Committee Act, 5 U.S.C. Appendix.

The Merchant Marine Personnel Advisory Committee is established under authority of U.S. Code, Title 46, section 8108. The Committee acts solely in an advisory capacity to the Secretary of the Department of Homeland Security through the Commandant of the U.S. Coast Guard on matters relating to personnel in the United States merchant marine, including training, qualifications, certification, documentation, and fitness standards and other matters as assigned by the Commandant. The Committee also reviews and comments on proposed U.S. Coast Guard regulations and policies relating to personnel in the United States merchant marine, including training, qualifications, certification, documentation, and fitness standards.

Agenda

The agenda for the September 15, 2020 full Committee meeting is as follows:

(1) Introduction.

(2) Designated Federal Officer remarks.

(3) Remarks from U.S. Coast Guard Leadership.

(4) Roll call of Committee members and determination of a quorum.

(5) Acceptance of Meeting 51 Minutes.

(6) Report on Working Groups and Discussion of Working Group recommendations.

The Committee will review the information presented on each issue, deliberate on any recommendations presented by the Working Groups, approve/formulate recommendations and close any completed tasks. Official action on these recommendations may be taken:

(a) Task Statement 90, Review of IMO Model Courses Being Validated by the IMO HTW Subcommittee;

(b) Task Statement 94, MERPAC Recommendation Review;

(c) Task Statement 101, Communication Between External Stakeholders and the Mariner Credentialing Program;

(d) Task Statement 105, Military Education, Training and Assessment for STCW and National Mariner Endorsements;

(e) Task Statement 106, STCW Convention and Code Review;

(f) Task Statement 107, Review of NOAA Sunsetting Program of Paper Nautical Chart Production.

(7) Report on establishment of National Merchant Marine Personnel Advisory Committee

(8) Report on National Maritime Center.

(9) Report on Job Task Analysis.

(10) Public comment period.

(11) Member recognition.

(12) Closing remarks.

(13) Adjournment of meeting.

A copy of all meeting documentation will be available at https://homeport.uscg.mil/missions/ports-and-waterways/safety-advisory-committees/merpac no later than September 8, 2020. Alternatively, you may contact Ms. Megan Johns Henry as noted in the FOR FURTHER INFORMATION CONTACT section above.

During the September 15, 2020 teleconference, a public comment period will be held from approximately 1:30-1:45 p.m. (EDT). Public comments will be limited to two minutes per speaker. Please note that the public comment periods will end following the last call for comments. Please contact the individual listed in the FOR FURTHER INFORMATION CONTACT section, to register as a speaker.

Dated: August 17, 2020.
Jeffrey G. Lantz,
Director of Commercial Regulations and Standards.

[FR Doc. 2020-18329 Filed 8-20-20; 8:45 am]

BILLING CODE 9110-04-P